DEPARTMENT OF HEALTH AND HUMAN SERVICES

Centers for Disease Control and Prevention

Disease, Disability, and Injury Prevention and Control Special Emphasis Panel (SEP): Initial Review

The meeting announced below concerns the Centers for Disease Control and Prevention (CDC) initial review of applications in response to Funding Opportunity Announcement (FOA) TS17-001, Identify and Characterize Potential Environmental Risk Factors for Amyotrophic Lateral Sclerosis (ALS), TS17-001.

Summary: This publication corrects a notice that was published in the Federal Register on May 4, 2017, Volume 82, No. 85, page 20895. The meeting time and date should read as follows:

Time and Date: 8:00 a.m.-6:00 p.m., EST, June 14, 2017 (Closed).

Contact Person for More Information: Oscar Tarragó, M.D., M.P.H., Scientific Review Officer, CDC, 4770 Buford Highway NE., Mailstop F63, Atlanta, Georgia 30341, Telephone: (770) 488-3492.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-09709 Filed 5-12-17; 8:45 am]

BILLING CODE 4163-18-P